DEPARTMENT OF JUSTICE

Drug Enforcement Administration

Manufacturer of Controlled Substances; Notice of Application

Pursuant to section 1301.33(a) of title 21 of the Code of Federal Regulations (CFR), this is notice that on February 9, 2001, Chattam Chemicals, Inc., 3801 St. Elmo Avenue, Building 18, Chattanooga, Tennessee 37409, made application by renewal and by letter dated June 11, 2001, to the Drug Enforcement Administration (DEA) for registration as a bulk manufacturer of the basic classes of controlled substances listed below:

Drug | Schedule
N-Ethylamphetamine (1475) | I
4-Methoxyamphetamine (7411) | I
2,5-Dimethoxyamphetamine (7396) | I
Difenoxim (9168) | I
Amphetamine (1100) | II
Methamphetamine (1105) | II
Methylphenidate (1724) | II
Pentobarbital (2270) | II
Secobarbital (2315) | II
Codeine (9050) | II
Oxycodone (9143) | II
Diphenoxylate (9170) | II
Hydrocodone (9193) | II
Meperidine (9230) | II
Morphine (9300) | II
Thebaine (9333) | II
Alfentanil (9737) | II
Sufentanil (9740) | II
Fentanyl (9801) | II

The firm plans to bulk manufacture the listed controlled substances to produce products for distribution to its customers.

Any other such applicant and any person who is presently registered with DEA to manufacture such substance may file comments or objections to the issuance of the proposed registration.

Any such comments or objections may be addressed, in quintuplicate, to the Deputy Assistant Administrator, Office of Diversion Control, Drug Enforcement Administration, United States Department of Justice, Washington, DC 20537, Attention: DEA Federal Register Representative (CCR), and must be filed no later than November 5, 2001.

Dated: August 24, 2001.
Laura M. Nagel,
Deputy Assistant Administrator, Office of Diversion Control, Drug Enforcement Administration.

[FR Doc. 01-22326 Filed 9-5-01; 8:45 am]

BILLING CODE 4410-09-M